DEPARTMENT OF COMMERCE

International Trade Administration

[A-533-930]

Certain High Chrome Cast Iron Grinding Media From India: Initiation of Less-Than-Fair-Value Investigation

AGENCY: Enforcement and Compliance, International Trade Administration, Department of Commerce.

DATES: Applicable May 16, 2024.

FOR FURTHER INFORMATION CONTACT: Charles DeFilippo, AD/CVD Operations, Office VII, Enforcement and Compliance, International Trade Administration, U.S. Department of Commerce, 1401 Constitution Avenue NW, Washington, DC 20230; telephone: (202) 482-3797.

SUPPLEMENTARY INFORMATION:

The Petition

On April 26, 2024, the U.S. Department of Commerce (Commerce) received an antidumping duty (AD) petition concerning imports of certain high chrome cast iron grinding media (grinding media) from India, filed in proper form on behalf of Magotteaux Inc (the petitioner), a domestic producer of grinding media.¹ The Petition was accompanied by a countervailing duty (CVD) petition concerning imports of grinding media from India.²

¹ See Petitioner's Letter, “Petitions for the Imposition of Antidumping and Countervailing Duties,” dated April 26, 2024 (Petition).

² Id.

Between April 30 and May 9, 2024, Commerce requested information pertaining to certain aspects of the Petition in supplemental questionnaires.³ The petitioner filed an amendment to the proposed scope on May 8, 2024, and responded to Commerce's supplemental questionnaires between May 2 and 10, 2024.⁴

³ See Commerce's Letters, “Supplemental Questions,” dated May 2, 2024 (General Issues Questionnaire); and “Supplemental Questions,” dated May 2, 2024; see also Memorandum, “Phone Call with Counsel to Petitioner,” dated May 9, 2024.

⁴ See Petitioner's Letters, “Response to Supplemental Questions (General Issues),” dated May 2, 2024 (General Issues Supplement); “Response to Supplemental Questions (Antidumping),” dated May 2, 2024; “Scope Amendment,” dated May 8, 2024 (Scope Amendment); and “Response to Second Supplemental Questions (Antidumping),” dated May 10, 2024.

In accordance with section 732(b) of the Tariff Act of 1930, as amended (the Act), the petitioner alleges that imports of grinding media from India, are being, or are likely to be, sold in the United States at less than fair value (LTFV) within the meaning of section 731 of the Act, and that imports of such products are materially injuring, or threatening material injury to, the grinding media industry in the United States. Consistent with section 732(b)(1) of the Act, the Petition was accompanied by information reasonably available to the petitioner supporting its allegations.

Commerce finds that the petitioner filed the Petition on behalf of the domestic industry because the petitioner is an interested party, as defined in section 771(9)(C) of the Act. Commerce also finds that the petitioner demonstrated sufficient industry support for the initiation of the requested LTFV investigation.⁵

⁵ See section on “Determination of Industry Support for the Petition,” infra.

Period of Investigation

Because the Petition was filed on April 26, 2024, pursuant to 19 CFR 351.204(b)(1), the period of investigation (POI) is April 1, 2023, through March 31, 2024.

Scope of the Investigation

The products covered by this investigation are grinding media from India. For a full description of the scope of this investigation, see the appendix to this notice.

Comments on the Scope of the Investigation

On April 30, 2024, Commerce requested information and clarification from the petitioner regarding the proposed scope to ensure that the scope language in the Petition is an accurate reflection of the products for which the domestic industry is seeking relief.⁶ On May 2 and 8, 2024, the petitioner provided clarifications and/or revised the scope.⁷ The description of merchandise covered by this investigation, as described in the appendix to this notice, reflects these clarifications.

⁶ See General Issues Questionnaire.

⁷ See Scope Amendment at 1-2; see also General Issues Supplement at 1-2.

As discussed in the Preamble to Commerce's regulations, we are setting aside a period for interested parties to raise issues regarding product coverage (i.e., scope).⁸ Commerce will consider all scope comments received from interested parties and, if necessary, will consult with interested parties prior to the issuance of the preliminary determination. If scope comments include factual information,⁹ all such factual information should be limited to public information. To facilitate preparation of its questionnaires, Commerce requests that scope comments be submitted by 5:00 p.m. Eastern Time (ET) on June 5, 2024, which is 20 calendar days from the signature date of this notice.¹⁰ Any rebuttal comments, which may include factual information, and should also be limited to public information, must be filed by 5:00 p.m. ET on June 17, 2024, which is the next business day after 10 calendar days from the initial comment deadline.¹¹

⁸ See Antidumping Duties; Countervailing Duties, Final Rule, 62 FR 27296, 27323 (May 19, 1997) (Preamble); see also 19 CFR 351.312.

⁹ See 19 CFR 351.102(b)(21) (defining “factual information”).

¹⁰ See 19 CFR 351.303(b)(1).

¹¹ The deadline for rebuttal comments falls on June 15, 2024, which is a Saturday. In accordance with 19 CFR 351.303(b)(1), Commerce will accept rebuttal comments filed by 5:00 p.m. ET on June 17, 2024. Id. (“For both electronically filed and manually filed documents, if the applicable due date falls on a non-business day, the Secretary will accept documents that are filed on the next business day.”).

Commerce requests that any factual information that parties consider relevant to the scope of this investigation be submitted during that period. However, if a party subsequently finds that additional factual information pertaining to the scope of the investigation may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of grinding media to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe grinding media, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on June 5, 2024, which is 20 calendar days from the signature date of this notice.¹³ Any rebuttal comments must be filed by 5:00 p.m. ET on June 17, 2024, which is the next business day after 10 calendar days from the initial comment deadline.¹⁴

¹³ See 19 CFR 351.303(b)(1).

¹⁴ The deadline for rebuttal comments falls on June 15, 2024, which is a Saturday. In accordance with 19 CFR 351.303(b)(1), Commerce will accept rebuttal comments filed by 5:00 p.m. ET on June 17, 2024. Id. (“For both electronically filed and manually filed documents, if the applicable due date falls on a non-business day, the Secretary will accept documents that are filed on the next business day.”).

All comments and submissions to Commerce must be filed electronically using ACCESS, as explained above, on the record of the LTFV investigation.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁵ they do so for different purposes and pursuant to a separate and distinct authority. In addition, Commerce's determination is subject to limitations of time and information. Although this may result in different definitions of the like product, such differences do not render the decision of either agency contrary to law.¹⁶

¹⁵ See section 771(10) of the Act.

¹⁶ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁷ Based on our analysis of the information submitted on the record, we have determined that grinding media, as defined in the scope, constitute a single domestic like product, and we have analyzed industry support in terms of that domestic like product.¹⁸

¹⁷ See Petition at Volume I (pages 2-3, 15-17 and Exhibits I-2 through I-4); see also General Issues Supplement at 2-6.

¹⁸ For a discussion of the domestic like product analysis as applied to this case and information regarding industry support, see Checklist, “Certain High Chrome Cast Iron Grinding Media from India,” dated concurrently with, and hereby adopted by, this notice (India AD Initiation Checklist), at Attachment II, Analysis of Industry Support for the Antidumping and Countervailing Duty Petitions Covering Certain High Chrome Cast Iron Grinding Media from India. The checklist is on file electronically via ACCESS.

In determining whether the petitioner has standing under section 732(c)(4)(A) of the Act, we considered the industry support data contained in the Petition with reference to the domestic like product as defined in the “Scope of the Investigation,” in the appendix to this notice. To establish industry support, the petitioner provided its own production of the domestic like product in 2023.¹⁹ The petitioner stated that there are no other known producers of grinding media in the United States; therefore, the Petition is supported by 100 percent of the U.S. industry.²⁰ We relied on data provided by the petitioner for purposes of measuring industry support.²¹

¹⁹ See Petition at Volume I (page 25 and Exhibit I-12).

²⁰ Id. at 3 and Exhibit I-2; see also General Issues Supplement at 2 and Exhibit I-1.

²¹ See Petition at Volume I (pages 3 and 25 and Exhibits I-2 and I-12); see also General Issues Supplement (page 2 and Exhibit 1). For further discussion, see Attachment II of the India AD Initiation Checklist.

Our review of the data provided in the Petition, the General Issues Supplement, and other information readily available to Commerce indicates that the petitioner has established industry support for the Petition.²² First, the Petition established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petition.²⁵ Accordingly, Commerce determines that the Petition was filed on behalf of the domestic industry within the meaning of section 732(b)(1) of the Act.²⁶

²² See Attachment II of the India AD Initiation Checklist.

²³ Id.; see also section 732(c)(4)(D) of the Act.

²⁴ See Attachment II of the India AD Initiation Checklist.

²⁵ Id.

²⁶ Id.

Allegations and Evidence of Material Injury and Causation

The Petitioner alleges that the U.S. industry producing the domestic like product is being materially injured, or is threatened with material injury, by reason of the imports of the subject merchandise sold at LTFV. In addition, the petitioner alleges that subject imports exceed the negligibility threshold provided for under section 771(24)(A) of the Act.²⁷

²⁷ See Petition at Volume I (page 21 and Exhibit I-9).

The petitioner contends that the industry's injured condition is illustrated by the significant volume of subject imports; reduced market share; underselling and price depression and/or suppression; lost sales and revenues; declines in production, shipments, capacity utilization; and decline in financial indicators and employment variables.²⁸ We assessed the allegations and supporting evidence regarding material injury, threat of material injury, causation, as well as negligibility, and we have determined that these allegations are properly supported by adequate evidence and meet the statutory requirements for initiation.²⁹

²⁸ Id. At 21-30 and Exhibits I-9 and I-11 through I-15; see also General Issues Supplement at 6 and Exhibit 2.

²⁹ Se India AD Initiation Checklist at Attachment III, Analysis of Allegations and Evidence of Material Injury and Causation for the Antidumping and Countervailing Duty Petitions Covering Certain High Chrome Cast Iron Grinding Media from India.

Allegation of Sales at LTFV

The following is a description of the allegation of sales at LTFV upon which Commerce based its decision to initiate the LTFV investigation of imports of grinding media from India. The sources of data for the deductions and adjustments relating to U.S. price and normal value (NV) are discussed in greater detail in the India AD Initiation Checklist.

U.S. Price

The petitioner based export price (EP) on the average unit value (AUV) derived from official U.S. import statistics for imports of grinding media from India during the POI. The petitioner made certain adjustments to U.S. price to calculate a net ex-factory U.S. price, where applicable.³⁰

³⁰ See India AD Initiation Checklist.

Normal Value ³¹

³¹ In accordance with section 773(b)(2) of the Act, for this investigation, Commerce will request information necessary to calculate the constructed value (CV) and COP to determine whether there are reasonable grounds to believe or suspect that sales of the foreign like product have been made at prices that represent less than the COP of the product.

The petitioner stated that it was unable to obtain home market prices or third-country prices for grinding media to use as a basis for NV.³² Therefore, the petitioner, pursuant to section 773(a)(4) of the Act, relied on constructed value (CV) as the basis for NV.³³ For further discussion of CV, see the section “Normal Value Based on Constructed Value.”

³² See India AD Initiation Checklist.

³³ Id.

Normal Value Based on Constructed Value

As noted above, the petitioner stated that it was unable to obtain home market or third-country prices to use as a basis for NV.³⁴ Therefore, the petitioner based NV on CV.³⁵ Pursuant to section 773(e) of the Act, the petitioner calculated CV as the sum of the cost of manufacturing, selling, general, and administrative (SG&A) expenses, financial expenses, and profit.³⁶

³⁴ Id.

³⁵ Id.

³⁶ Id.

In calculating the cost of manufacturing, the petitioner relied on its own production experience and input consumption rates, valued using publicly available information applicable to India.³⁷ In calculating SG&A expenses, financial expenses, and profit ratios (where applicable), the petitioner relied on the fiscal year 2023 financial statements of an Indian producer of identical merchandise.³⁸

³⁷ Id.

³⁸ Id.

Fair Value Comparisons

Based on the data provided by the petitioner, there is reason to believe that imports of grinding media from India are being, or are likely to be, sold in the United States at LTFV. Based on comparisons of EP to NV in accordance with sections 772 and 773 of the Act, the estimated dumping margins for grinding media from India range from 40.59 to 52.06 percent ad valorem.³⁹

³⁹ See India AD Checklist for details of the calculations.

Initiation of LTFV Investigation

Based upon the examination of the Petition and supplemental responses, we find that it meets the requirements of section 732 of the Act. Therefore, we are initiating an LTFV investigation to determine whether imports of grinding media from India are being, or are likely to be, sold in the United States at LTFV. In accordance with section 733(b)(1)(A) of the Act and 19 CFR 351.205(b)(1), unless postponed, we will make our preliminary determination no later than 140 days after the date of this initiation.

Respondent Selection

In the Petition, the petitioner identified 11 companies in India as producers/exporters of grinding media.⁴⁰ Following standard practice in LTFV investigations involving market economy countries, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigation,” in the appendix.

⁴⁰ See Petition at Volume I (Exhibit I-7).

On May 8, 2024, Commerce released CBP data on imports of grinding media from India, under administrative protective order (APO) to all parties with access to information protected by APO and indicated that interested parties wishing to comment on CBP data and/or respondent selection must do so within three business days of the publication date of the notice of initiation of this investigation.⁴¹ Comments must be filed electronically using ACCESS. An electronically filed document must be received successfully in its entirety via ACCESS by 5:00 p.m. ET on the specified deadline. Commerce will not accept rebuttal comments regarding the CBP data or respondent selection.

⁴¹ See Memorandum, “U.S. Customs and Border Protection Data Release,” dated May 8, 2024.

Interested parties must submit applications for disclosure under APO in accordance with 19 CFR 351.305(b). Instructions for filing such applications may be found on Commerce's website at https://www.trade.gov/administrative-protective-orders.

Distribution of Copies of the Petition

In accordance with section 732(b)(3)(A) of the Act and 19 CFR 351.202(f), a copy of the public version of the Petition has been provided to the Government of India via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 45 days after the date on which the Petition was filed, whether there is a reasonable indication that imports of grinding media from India are materially injuring, or threatening material injury to, a U.S. industry.⁴² A negative ITC determination will result in the investigation being terminated.⁴³ Otherwise, this LTFV investigation will proceed according to statutory and regulatory time limits.

⁴² See section 733(a) of the Act.

⁴³ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁴ and, if the information is submitted to rebut, clarify, or correct factual information already on the record, to provide an explanation identifying the information already on the record that the factual information seeks to rebut, clarify, or correct.⁴⁵ Time limits for the submission of factual information are addressed in 19 CFR 351.301, which provides specific time limits based on the type of factual information being submitted. Interested parties should review the regulations prior to submitting factual information in this investigation.

⁴⁴ See 19 CFR 351.301(b).

⁴⁵ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁶ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴⁷

⁴⁶ See 19 CFR 351.301; see also Extension of Time Limits; Final Rule, 78 FR 57790 (September 20, 2013) (Time Limits Final Rule), available at https://www.gpo.gov/fdsys/pkg/FR-2013-09-20/html/2013-22853.htm.

⁴⁷ See 19 CFR 351.302; see also, e.g., Time Limits Final Rule.

Certification Requirements

Any party submitting factual information in an AD or CVD proceeding must certify to the accuracy and completeness of that information.⁴⁸ Parties must use the certification formats provided in 19 CFR 351.303(g).⁴⁹ Commerce intends to reject factual submissions if the submitting party does not comply with the applicable certification requirements.

⁴⁸ See section 782(b) of the Act.

⁴⁹ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁵⁰

⁵⁰ See Administrative Protective Order, Service, and Other Procedures in Antidumping and Countervailing Duty Proceedings, 88 FR 67069 (September 29, 2023).

This notice is issued and published pursuant to sections 732(c)(2) and 777(i) of the Act, and 19 CFR 351.203(c).

Dated: May 16, 2024.
Ryan Majerus,
Deputy Assistant Secretary for Policy and Negotiations, performing the non-exclusive functions and duties of the Assistant Secretary for Enforcement and Compliance.

Appendix

Scope of the Investigation

The scope of this investigation covers chrome cast iron grinding media in spherical (ball) or ovoid shape, with an alloy composition of seven percent or more (≥7 percent of total mass) chromium (Cr) content and produced through the casting method, with a nominal diameter of up to 127 millimeters (mm) and tolerance of plus or minus 10 mm. The products covered by the scope are currently classified under Harmonized Tariff Schedule of the United States (HTSUS) subheading 7325.91.0000. This HTSUS subheading is provided for convenience and U.S. Customs purposes only. The written description of the scope is dispositive.

[FR Doc. 2024-11263 Filed 5-22-24; 8:45 am]

BILLING CODE 3510-DS-P